DEPARTMENT OF THE TREASURY

Agency Information Collection Activities, Proposed Collection, and Comment Request; Terrorism Risk Insurance Program—Data Collection Forms

AGENCY: Departmental Offices, U.S. Department of the Treasury.

ACTION: Notice and request for comments.

SUMMARY: The Secretary of the Treasury (Secretary) administers the Terrorism Risk Insurance Program (TRIP or Program), including the issuance of regulations and procedures regarding the Program. The Federal Insurance Office (FIO) assists the Secretary in the administration of the Program. The Department of the Treasury (Treasury), as part of its continuing effort to reduce paperwork burdens, invites the general public and other Federal agencies to comment on approved information collections for annual data collection that are due for extension by the Office of Management and Budget (OMB) (currently approved under OMB 1505-0257). These forms will be utilized, beginning in calendar year 2025, in connection with both the federal and state annual data calls regarding terrorism risk insurance. State insurance regulators, through the National Association of Insurance Commissioners (NAIC), will separately address any comments sought or made in connection with the state data call.

DATES: Submit comments on or before January 27, 2025.

ADDRESSES: Submit comments electronically through the Federal eRulemaking Portal: https://www.regulations.gov, within Docket No. TREAS-TRIP-2024-0016, or by mail to the Federal Insurance Office, Attn: Richard Ifft, Room 1410 MT, Department of the Treasury, 1500 Pennsylvania Avenue NW, Washington, DC 20220. Because postal mail may be subject to processing delays, it is recommended that comments be submitted electronically. If submitting comments by mail, please submit an original version with two copies. Comments concerning the proposed data collection forms and collection process should be captioned with “TRIP Data Call Form Comments.” Please include your name, group affiliation, address, email address, and telephone number(s) in your comment. Where appropriate, a comment should include a short Executive Summary (no more than five single-spaced pages).

FOR FURTHER INFORMATION CONTACT: Richard Ifft, Lead Management and Senior Insurance Policy Analyst, Terrorism Risk Insurance Program, Federal Insurance Office, Room 1410 MT, Department of the Treasury, 1500 Pennsylvania Avenue NW, Washington, DC 20220, at (202) 622-2922 (not a toll-free number), or Mallory Marchant, Policy Advisor, Federal Insurance Office, at (202) 622-4793 (not a toll-free number). Persons who have difficulty hearing or speaking may access these numbers via TTY by calling the toll-free Federal Relay Service at (800) 877-8339.

SUPPLEMENTARY INFORMATION:

I. Background

The Terrorism Risk Insurance Act of 2002, as amended (TRIA),¹ established the Terrorism Risk Insurance Program (TRIP or Program).² The Act establishes a temporary federal program of shared public and private compensation for insured commercial property and casualty losses resulting from an “act of terrorism,” as defined by TRIA. The Act requires the Secretary to perform periodic analyses of certain matters concerning the Program. In order to assist the Secretary with these analyses and administration of the Program, TRIA requires insurers to submit on an annual basis certain insurance data and information regarding their participation in the Program.³ FIO is authorized to assist the Secretary in the administration of the Program.⁴

¹ 15 U.S.C. 6701 note. Because the provisions of TRIA (as amended) appear in a note, instead of particular sections, of the United States Code, the provisions of TRIA are identified by the sections of the law.

² See 31 CFR part 50.

³ TRIA sec. 104(h).

⁴ 31 U.S.C. 313(c)(1)(D).

Treasury began collecting data from insurers in 2016 on a voluntary basis,⁵ and on a mandatory basis beginning in 2017.⁶ Treasury also arranged in 2017 for workers' compensation rating bureaus to provide most of the workers' compensation insurance data elements.⁷ In 2018, Treasury and state insurance regulators (which also collect information on terrorism risk insurance in a separate data call) agreed on joint reporting templates substantially similar to those used by Treasury in prior years.⁸ The forms that are currently approved for use by Treasury, and which were utilized during the 2024 TRIP Data Call, expire effective March 31, 2025.

⁵ 81 FR 11649 (March 4, 2016).

⁶ A reporting exemption was extended to small insurers that wrote less than $10 million in TRIP-eligible lines premiums in 2016. See 81 FR 95310 (December 27, 2016); 82 FR 20420 (May 1, 2017).

⁷ 82 FR 20420 (May 1, 2017).

⁸ 83 FR 14718 (April 5, 2018).

Treasury seeks to continue to use the same forms for the next three-year period, subject to non-material modifications each year during the upcoming three-year period relating to the dates for which data is sought, the incorporation of any changes to relevant Program thresholds, and changes to the unique modeled loss question posed each year to estimate the potential impact upon the Program from hypothetical terrorism loss events.

In accordance with TRIA, Treasury has evaluated whether publicly available sources can supply the information needed in the annual data call. Information relating to workers' compensation exposures is available from the workers' compensation rating bureaus, and Treasury will continue to coordinate with those entities to provide that information on behalf of participating insurers. Treasury has determined, however, that all other data components remain unavailable from other sources. Accordingly, Treasury will continue to request this remaining data and information directly from insurers. By continuing to collect information on a consolidated basis with state regulators, however, Treasury will achieve a significant reduction in overall data collection burdens for participating insurers.

II. Data Collection Process

Treasury expects the data collection process to remain the same while the proposed forms are in effect. Treasury again proposes to use four different data collection forms,⁹ depending upon the type of insurer involved. Insurers will fill out the form identified “Insurer (Non-Small) Groups or Companies,” unless the insurer meets the definition of a small insurer, captive insurer, or alien surplus lines insurer as set forth in 31 CFR 50.4. Such small insurers, captive insurers, and alien surplus lines insurers are required to complete separate forms that are tailored for each type of entity. Separate instructions providing guidance on each requested data element accompany each form. There are reporting thresholds that affect what form a particular insurer needs to complete, or whether the insurer is subject to any reporting. Reporting insurers submit information to Treasury through a portal managed by a data aggregator retained by Treasury, as required by TRIA. State regulators require insurers to submit the same information for state purposes through a portal operated by New York State.

⁹ See 31 CFR 50.51(c).

Treasury will issue a Federal Register Notice each year identifying when the data collect portal is open to receive submissions, identifying any non-material changes to the reporting forms and instructions, and providing further technical details respecting the reporting. To the extent Treasury determines to make any material changes to the existing data collection forms, it will provide public notice and opportunity to comment, incidental to an application for approval to OMB.

III. Request for Comments

Copies of the existing forms that Treasury seeks to renew and associated instructions are available for electronic review on the Treasury website at https://home.treasury.gov/policy-issues/financial-markets-financial-institutions-and-fiscal-service/federal-insurance-office/terrorism-risk-insurance-program/annual-data-collection. Treasury is requesting public feedback on the content of these reporting forms.

IV. Procedural Requirements

Paperwork Reduction Act. Comments submitted in response to this notice will be summarized and included in the request for Office of Management and Budget approval that will be submitted for review under the requirements of the Paperwork Reduction Act, 44 U.S.C. 3507(d). Comments should be sent to Treasury in the form discussed in the ADDRESSES section of this notice. Comments on the collection of information should be received by January 27, 2025.

Comments are being sought with respect to the collection of information in the proposed annual TRIP Data Call. Treasury specifically invites comments on: (a) Whether the proposed collection is responsive to the statutory requirement; (b) the accuracy of the estimate of the burden of the collections of information (see below); (c) ways to enhance the quality, utility, and clarity of the information collection; (d) ways to use automated collection techniques or other forms of information technology; and (e) estimates of capital or start-up costs and costs of operation, maintenance, and purchase of services to maintain the information.

The information sought by Treasury comprises data elements that insurers currently collect or generate, although not necessarily grouped together the way in which insurers currently collect and evaluate the data. Based upon insurer submissions to the 2024 TRIP Data Call, Treasury estimates that for purposes of future annual TRIP Data Calls, approximately 90 Program participants will be required to submit the “Insurer (Non-Small) Groups or Companies” data collection form, 200 Program participants will be required to submit the “Small Insurer” form, 625 Program participants will be required to submit the “Captive Insurer” form, and 100 Program participants will be required to submit the “Alien Surplus Lines Insurers” form.

Treasury has previously analyzed the potential burdens associated with completing the annual TRIP Data Call forms.¹⁰ Treasury expects each set of reporting templates to incur a different level of burden, based upon the different components contained in each reporting template and the number of insurers within each that will need to respond to each worksheet. Based upon its prior estimates, Treasury anticipates that approximately 90 hours will be required on average to collect, process, and report the data for each non-small insurer. For each small insurer, approximately 32 hours will be required to collect, process, and report data. Approximately 52 hours will be required to collect, process, and report data for each captive insurer. Finally, approximately 57 hours will be required to collect, process, and report data for each alien surplus lines insurer.

¹⁰ See Terrorism Risk Insurance Program 2022 Data Call, 86 FR 64600, 64603 (November 18, 2021). The proportion of insurers completing the various worksheets within each category of form today remain roughly the same as Treasury calculated in 2021, leading to no change in the number of hours burden estimates for each catetory of insurer.

Assuming this breakdown, and when applied to the number of estimated reporting insurers, the estimated annual burden would be 52,700 hours ((90 non-small insurers × 90 hours) + (200 small insurers x 32 hours) + (625 captive insurers × 52 hours) + (100 alien surplus lines insurers × 57 hours)). At a blended, fully loaded hourly rate of $69.45,¹¹ the cost would be $3,660,015 across the industry as a whole, or $6,250.50 per non-small insurer, $2,222.40 per small insurer, $3,611.40 per each captive insurer, and $3,958.65 each per alien surplus lines insurer.

¹¹ Based on data from the Bureau of Labor Statistics, for Insurance Carriers and Related Activities, https://www.bls.gov/iag/tgs/iag524.htm#earnings. The average wage rate for all insurance employees was $45.30 in August 2024, and the total benefit compensation in the 2nd Quarter of 2024 was 34.8%, which is a benefit multiplier of 1.533. Therefore, a fully loaded wage rate for insurance employees is $69.45, or $45.30 × 1.533.

Dated: November 20, 2024.
Steven E. Seitz,
Director, Federal Insurance Office.

[FR Doc. 2024-27640 Filed 11-25-24; 8:45 am]

BILLING CODE 4810-AK-P